DEPARTMENT OF TRANSPORTATION

Federal Aviation Administration

RTCA Special Committee 200: Modular Avionics

AGENCY: Federal Aviation Administration (FAA), DOT.

ACTION: Notice of RTCA Special Committee 200 meeting.

SUMMARY: The FAA is issuing this notice to advise the public of a meeting of RTCA Special Committee 200: Modular Avionics (MA).

DATES: The meeting will be held on July 30-August 1, 2002 from 9 a.m. to 5 p.m.

ADDRESSES: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax (202) 833-9434; web site http://www.rtca.org.

SUPPLEMENTARY INFORMATION: Pursuant to section 10(a)(2) of the Federal Advisory Committee Act (P. L. 92-463, 5 U.S.C., Appendix 2), notice is hereby given for a Special Committee 200 meeting. The agenda will include:

• July 30:

• Opening Session (Welcome, Introductory and Administrative Remarks, Review Agenda, Review Summary of Previous Meeting)

• Organize Working Groups (WG) and procedures; Email exploder/reflector & web workspace

• Review open action items

• Discuss standing working papers

• Report on other groups and committees

• (SC-135) DO-160/ED-14 Update

• ARINC 653

• Aircraft System-Safety Assessment (SAE S-18)

• Update on Victoria project progress and tasks

• Review process and procedures for joint activities

• Discuss proposed Terms of Reference (TOR) alignment for WG-60 and SC-200

• July 31:

• Combined Session: SC-200/WG-60

• Assessment of objectives and TOR

• Review standing working papers. Discuss and comment on:

• “Definition of essential/key characteristics of MA”

• “MA Novelties”

• “Glossary of terms”

• Discuss and review concept of “incremental certification”

• Review structure and arrangement:

• Agreement of sub group co-chairs

• Discuss working methods

• Discuss structure and form of deliverables

• Review preliminary proposals for document working outline

• Update on Joint Aviation Authority (JAA) and FAA policy development

• August 1:

• Agree on results of joint session

• Propose, review and approval of timescales for deliverables against the TORs

• Agree on working papers planned for future plenary agreement

• Allocate tasks and work plan update

• Review action list

• Closing Session (Make Assignments, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 3, 2002.
Janice L. Peters,
FAA Special Assistant, RTCA Advisory Committee.

[FR Doc. 02-17366 Filed 7-9-02; 8:45 am]

BILLING CODE 4910-13-M